DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 17, 2003.

Interested persons are invited to submit written comments regarding the subject matter of the investigations to the Director, Division of Trade Adjustment Assistance, at the address shown below, not later than March 17, 2003.

The petitions filed in this case are available for inspection at the Office of the Director, Division of Trade Adjustment Assistance, Employment and Training Administration, U.S. Department of Labor, Room C-5311, 200 Constitution Avenue, NW., Washington, DC 20210.

Signed at Washington, DC this 12th day of February, 2003.
Edward A. Tomchick,
Director, Division of Trade Adjustment Assistance.

Appendix
[Petitions Instituted Between 01/27/2003 and 01/31/2003]
TA-W | Subject firm (petitioners) | Location | Date of institution | Date of petition
50,684 | Producto Machine Company (Comp) | Bridgeport, CT | 01/27/2003 | 01/24/2003
50,685 | Elm Tex, Inc. (Comp) | Springfield, MA | 01/27/2003 | 01/24/2003
50,686 | First Source Furniture Group (Comp) | Halls, TN | 01/27/2003 | 12/30/2002
50,687 | Metso Paper (Wkrs) | Beloit, WI | 01/27/2003 | 01/14/2003
50,688 | Golden Northwest Aluminum (USWA) | The Dalles, OR | 01/27/2003 | 01/15/2003
50,689 | F/V Wendy Anne (Comp) | Larsen Bay, AK | 01/27/2003 | 01/24/2003
50,690 | Pillsbury Company General Mills (Wkrs) | Denison, TX | 01/27/2003 | 01/24/2003
50,691 | Terry Wassillie (Comp) | Iliamna, AK | 01/27/2003 | 01/24/2003
50,692 | Findlay Industries (Comp) | Findlay, OH | 01/27/2003 | 01/24/2003
50,693 | Wards Cove Packing Company (Comp) | Seattle, WA | 01/27/2003 | 01/15/2003
50,694 | Modern Mold-Manufacturing, Inc. (MI) | Port Huron, MI | 01/28/2003 | 01/17/2003
50,695 | F/V Miss Maddison, Inc. (Comp) | Mercer Island, WA | 01/28/2003 | 01/25/2003
50,696 | Lustar Dyeing and Finishing (Comp) | Asheville, NC | 01/28/2003 | 01/22/2003
50,697 | F/V Able Mabel (Comp) | Sand Pt, AK | 01/28/2003 | 01/25/2003
50,698 | Motor Coach Industries, Inc. (IAM) | Pembina, ND | 01/28/2003 | 01/24/2003
50,699 | Jideco of Bardstown, Inc. (Comp) | Bardstown, KY | 01/28/2003 | 01/22/2003
50,700 | 20th Century Machine (Comp) | Armada, MI | 01/28/2003 | 01/21/2003
50,701 | Midwest Electric Products, Inc. (Comp) | Mankato, MN | 01/28/2003 | 01/24/2003
50,702 | Motorola, Inc. (Wkrs) | Phoenix, AZ | 01/28/2003 | 01/23/2003
50,703 | Versa-Tool, Inc. (Wkrs) | Meadville, PA | 01/28/2003 | 01/27/2003
50,704 | Tarcon, Inc. (Wkrs) | Pulaski, WI | 01/28/2003 | 01/09/2003
50,705 | Rexam (NJ) | Mt. Holly, NJ | 01/28/2003 | 01/27/2003
50,706 | Oregon Steel Mills (Wkrs) | Portland, OR | 01/28/2003 | 01/27/2003
50,707 | Nippon Wiper Blade Co., Ltd. (Comp) | Petersburg, VA | 01/28/2003 | 01/28/2003
50,708 | Peace Industries, Ltd. (Comp) | Rolling Meadows, IL | 01/28/2003 | 01/27/2003
50,709 | Coilcraft, Inc. (Comp) | Cary, IL | 01/28/2003 | 01/20/2003
50,710 | F/V Kona Rose, Inc. (Comp) | Seattle, WA | 01/28/2003 | 01/27/2003
50,711 | F/V Capt. Anvis (Comp) | Manokatak, AK | 01/28/2003 | 01/21/2003
50,712 | F/V Mikna Rene (Comp) | Manokatak, AK | 01/28/2003 | 01/21/2003
50,713 | Jideco (Comp) | Farmington Hill, MI | 01/28/2003 | 01/22/2003
50,714 | F/V Missy Mary (Comp) | Manokatak, AK | 01/28/2003 | 01/21/2003
50,715 | F/V Aaron and Eric (Comp) | Manokotak, AK | 01/28/2003 | 01/21/2003
50,716 | F/V Miss Kristy (Comp) | Clark's Point, AK | 01/28/2003 | 01/21/2003
50,717 | F/V Echo 3 (Comp) | Clark's Point, AK | 01/28/2003 | 01/21/2003
50,718 | F/V Adrian D. (Comp) | Clark's Point, AK | 01/28/2003 | 01/21/2003
50,719 | Menasha Packaging Co., LLC (Comp) | Colona, MI | 01/29/2003 | 01/23/2003
50,720 | Siemens Business Services (Wkrs) | Mason, OH | 01/29/2003 | 01/27/2003
50,721 | CPM Electronic Industries (Wkrs) | Roseville, MI | 01/29/2003 | 01/22/2003
50,722 | Bickford Woodworking Products, Inc. (Comp) | Monmouth, ME | 01/29/2003 | 01/23/2003
50,723 | The Rival Company (Wkrs) | Sweet Springs, MO | 01/29/2003 | 01/28/2003
50,724 | Zimmerman Sign Company (Comp) | Longview, TX | 01/29/2003 | 01/28/2003
50,725 | Maxtor Corporation (Comp) | Shrewsbury, MA | 01/29/2003 | 01/06/2003
50,726 | Accuride International (Comp) | Santa Fe Spring, CA | 01/29/2003 | 01/29/2003
50,727 | United Defense (Comp) | York, PA | 01/29/2003 | 01/28/2003
50,728 | Delco Remy America, Inc. (UAW) | Anderson, IN | 01/29/2003 | 01/27/2003
50,729 | Rockshox, Inc. (Comp) | Colorado Spring, CO | 01/29/2003 | 01/24/2003
50,730 | PPG (Wkrs) | Troy, MI | 01/29/2003 | 01/23/2003
50,731 | Protectoseal Company (The) (IAMAW) | Bensenville, IL | 01/29/2003 | 01/27/2003
50,732 | Delphax Technologies, Inc. (Comp) | Minnetonka, MN | 01/29/2003 | 01/27/2003
50,733 | Nidec America Corporation (Comp) | Canton, MA | 01/30/2003 | 01/29/2003
50,734 | Genesis Designs (Comp) | Bend, OR | 01/30/2003 | 01/29/2003
50,735 | Kincaid Furniture Co., Inc. (Comp) | Lenoir, NC | 01/30/2003 | 01/27/2003
50,736 | Isola Laminate Systems (Comp) | LaCrosse, WI | 01/30/2003 | 01/27/2003
50,737 | Austin Powder Company (OR) | Bend, OR | 01/30/2003 | 01/29/2003
50,738 | Alcoa (Comp) | Massena, NY | 01/30/2003 | 01/17/2003
50,739 | Canron Construction Corporation (Wkrs) | Conlin, NY | 01/30/2003 | 01/29/2003
50,740 | Argus Services, Inc. (Comp) | Libby, MT | 01/30/2003 | 01/21/2003
50,741 | Consolidated Freightways, Inc. (MN) | Shoreview, MN | 01/30/2003 | 01/29/2003
50,742 | Tweel Home Furnishing (NJ) | Newark, NJ | 01/30/2003 | 01/24/2003
50,743 | Comp Air (Comp) | Sidney, OH | 01/30/2003 | 01/16/2003
50,744 | Warren Fabricating Corporation (Wkrs) | Niles, OH | 01/30/2003 | 01/28/2003
50,745 | Monaco Coach Corporation (OR) | Bend, OR | 01/30/2003 | 01/29/2003
50,746 | CSI Employment Services (IA) | Mt. Pleasant, IA | 01/30/2003 | 12/10/2002
50,747 | Temp Associates (IA) | Mt. Pleasant, IA | 01/30/2003 | 12/10/2002
50,748 | F/V Aldebaran (Comp) | Ketchikan, AK | 01/30/2003 | 01/28/2003
50,749 | Kimberly C. Peterson (Comp) | Kodiak, AK | 01/30/2003 | 01/24/2003
50,750 | F/V Roeboat (Comp) | Togiak, AK | 01/30/2003 | 01/23/2003
50,751 | F/V Anuskat (Comp) | Manokotak, AK | 01/30/2003 | 01/21/2003
50,752 | F/V Todd Andrew (Comp) | Togiak, AK | 01/30/2003 | 01/23/2003
50,753 | F/V Rainbow (Comp) | Manokotak, AK | 01/30/2003 | 01/21/2003
50,754 | F/V Areil Rochelle (Comp) | Manokotak, AK | 01/30/2003 | 01/21/2003
50,755 | F/V Centurion (Comp) | Manokotak, AK | 01/30/2003 | 01/21/2003
50,756 | F/V Camelot (Comp) | Togiak, AK | 01/30/2003 | 01/23/2003
50,757 | F/V Desiree Marie III (Comp) | Togiak, AK | 01/30/2003 | 01/23/2003
50,758 | F/V Maryna J. (Comp) | NakNek, AK | 01/30/2003 | 01/24/2003
50,759 | Cape Menemikof (Comp) | Dillingham, AK | 01/30/2003 | 01/27/2003
50,760 | Joseph Wassily (Comp) | Clark's Point, AK | 01/30/2003 | 01/21/2003
50,761 | Nick J. Timurphy (Comp) | Dillingham, AK | 01/30/2003 | 01/27/2003
50,762 | Jerrold Wayne Braswell (Comp) | Dillingham, AK | 01/30/2003 | 01/27/2003
50,763 | Pfizer (CT) | Groton, CT | 01/31/2003 | 01/30/2003
50,764 | Permagrain Products, Inc. (Wkrs) | Karthaus, PA | 01/31/2003 | 01/30/2003
50,765 | Irving Forest Products (PACE) | Ashland, ME | 01/31/2003 | 01/30/2003
50,766 | Vishay Sprague Sanford (Comp) | Sanford, ME | 01/31/2003 | 01/30/2003
50,767 | Delta Airlines (Wkrs) | Atlanta, GA | 01/31/2003 | 01/31/2003
50,768 | F/V Maya Ann (Comp) | Anchorage, AK | 01/31/2003 | 01/23/2003
50,769 | Magic Fish Company (Comp) | False Pass, AK | 01/31/2003 | 01/29/2003

[FR Doc. 03-5411 Filed 3-6-03; 8:45 am]

BILLING CODE 4510-30-M